DEPARTMENT OF STATE

[Public Notice 6184]

Bureau of Educational and Cultural Affairs (ECA) Request for Cooperative Agreement Proposals: English Language Fellow Program for Academic Year (AY) 2009-2010

Announcement Type: Cooperative Agreement.

Funding Opportunity Number: ECA/A/L—09-01.

Catalog of Federal Domestic Assistance Number: 19.421.

Key Program Dates: N/A.

Application Deadline: June 13, 2008.

The Office of English Language Programs of the Bureau of Educational and Cultural Affairs announces an open competition for proposals to advance the Bureau's objectives through support of academic exchanges that will result in the improvement of English teaching capacity around the world and the enhancement of mutual understanding between the people of the United States and those of other countries through exchanges of U.S. English language educators to all regions of the world.

The English Language Fellow (EL Fellow) Program sends U.S. educators in the field of Teaching English as a Foreign Language (TEFL) on ten-month fellowships to overseas academic institutions. The Program also will bring Exchange EFL (English as a Foreign Language) Educators to the U.S. for a three-week workshop/institute including participation in the annual TESLO Convention. Pending the availability of Fiscal Year (FY) 2009 funds, the Bureau anticipates the placement of approximately 88 English Language Fellows (EL Fellows) overseas in AY 2009-2010. Public and private non-profit organizations meeting the provisions described in Internal Revenue Code, Section 26 U.S.C. 501(c)(3) may submit proposals to administer and manage the EL Fellow Program for AY 2009-2010.

I. Funding Opportunity Description

Authority

Overall Grant and Agreement-making authority for this program is contained in the Mutual Educational and Cultural Exchange Act of 1961, Public Law 87-256, as amended, also known as the Fulbright-Hays Act. The purpose of the Act is “to enable the Government of the United States to increase mutual understanding between the people of the United States and the people of other countries. . .; to strengthen the ties which unite us with other nations by demonstrating the educational and cultural interests, developments, and achievements of the people of the United States and other nations. . . and thus to assist in the development of friendly, sympathetic and peaceful relations between the United States and the other countries of the world.” The funding authority for the program above is provided through legislation.

Purpose

The English Language Fellow Program fosters mutual understanding between the people of the United States and those of other countries through exchanges of U.S. English language educators. The EL Fellow Program sends talented, highly qualified U.S. educators in the field of Teaching English to Speakers of Other Languages (TEFL) on ten-month assignments to academic institutions in all regions of the world. Through projects recommended by U.S. embassies, EL Fellows share their expertise, hone their skills, gain international experience, and learn other cultures. Upon returning to the United States, they share their experiences and acquired knowledge with their communities and professional colleagues. Projects are carried out with host-country ministries of education, universities, teacher-training institutions, NGOs, binational centers, and other English language teaching institutions.

The EL Fellow Program allows students and teachers at host institutions to benefit from the EL Fellows' expertise and to gain a better understanding of American values, representative government, free enterprise, and the rule of law. EL Fellows provide foreign educators, professionals, and students with communications skills they need to participate in the global economy and to improve their access to diverse perspectives on a broad variety of issues.

During the program, EL Fellows typically serve as full-time (up to 20 classroom contact hours per week) educators and may be engaged in teacher training, curriculum and materials development, English for Specific Purposes (ESP) instruction, assessment, evaluation, research, English club or American Corner programming, summer camps, and other outreach projects.

The overarching goals of the EL Fellow Program are to:

• Advance the Department of State's mutual understanding objectives;

• Enhance English teaching capacity overseas in order to provide foreign teachers and students with the communication skills they need to participate in the global economy;

• Allow students and teachers at host institutions to benefit from the EL Fellows' expertise and to gain a better understanding of American values, representative government, free enterprise, and the rule of law; and

• Provide an opportunity for U.S. English language educators to share their expertise, hone their skills, and learn about other cultures, so that upon returning to the United States, they can share their experiences and acquired knowledge with their communities and professional colleagues.

EL Fellow Eligibility Requirements

• U.S. citizenship;

• Master's degree with a focus in the field of Teaching English as a Foreign Language (TEFL), conferred no later than end of 2009 spring semester;

• Minimum of two years of professional experience in the field of Teaching English as a Foreign Language (TEFL); and

• Teacher training experience for a small cadre of “Senior” EL Fellows for projects requiring special expertise within the TEFL discipline.

Background

The Bureau seeks to award Cooperative Agreement funding to an applicant with the ability to achieve these objectives, incorporate lessons learned, and build upon past successes. A Cooperative Agreement will be awarded to a Recipient that has the necessary infrastructure and experience conducting academic exchange programs. The timing of the award and the amount of funding for the EL Fellow Program are subject to the availability of funds in FY 2009.

EL Fellow Program Guidelines

With the approval of the Office of English Language Programs, the roles and responsibilities of the Recipient administering the EL Fellow Program are to:

• Design and develop promotional materials to support advertisement and recruitment for the EL Fellow Program.

• Conduct an extensive, comprehensive, and ongoing promotional and advertising campaign to recruit qualified and experienced candidates for the EL Fellow Program.

• Identify and review with the Bureau of Educational and Cultural Affairs, Office of English Language Programs, and U.S. embassies' candidates for approximately 88 EL Fellow projects selected by the U.S. Department of State (approximately 70 EL Fellows and 18 Senior EL Fellows). Staff who are qualified and experienced in the field of TESOL must interview candidates and match candidates' skills to the needs of specific projects. The recruitment, selection, and placement process shall be completed by June 1, 2009.

• Plan and conduct a pre-departure orientation in Washington, DC.

• Conduct all financial management aspects of the EL Fellow Program, including processing of all EL Fellow grant payments electronically to EL Fellows' designated bank accounts. Maintain an EL Fellow Program budget spreadsheet.

• Provide fiscal management for EL Fellows' professional development activities during the assignment. These activities are selected by the Bureau and are supported by U.S. embassies and the Public Diplomacy Offices of the U.S. Department of State's Regional Geographic Bureaus.

• Make all necessary travel arrangements for the EL Fellows including reservations and issuance of tickets and itineraries.

• Enroll the selected EL Fellows in the Bureau Accident and Sickness Program for Exchanges (ASPE) Benefit Plan.

• Collect EL Fellows' health verification forms and arrange for proper medical clearance by a qualified medical practitioner.

• Monitor the EL Fellow Program activities and the EL Fellows, including making regional site visit(s).

• Develop evaluation strategies designed to measure the impact and outcome of the EL Fellow Program and the effectiveness of each individual EL Fellow's professional activities at his/her designated host institution(s).

• Maintain information sharing tools (e.g., Web site/listserv, database) records for the Bureau's Alumni Office.

• Organize and implement activities related to the annual TESOL Convention, including: conducting a three-week Exchange EFL (English as a Foreign Language) Educators Fellow workshop/institute for foreign participants chosen by the State Department; arranging for the workshop/institute participants to attend the annual TESOL Convention; and making all provisions for the Office of English Language Programs' reception at the TESOL Convention for the workshop/institute participants and EL Fellow Program alumni.

• Prepare Form DS-2019 and send the Form to each selected Exchange EFL Educator Fellow at least 60 days before his/her departure from his/her home country for the workshop/institute.

The responsibilities of the Recipient are clearly detailed in the Project Objectives, Goals, and Implementation (POGI). Due to the diverse responsibilities involved in administering the Cooperative Agreement, the Bureau welcomes the submission of proposals involving partnering organizations. In addition to the primary grantee, these other organizations may be sub-grantees responsible for carrying out specific activities or components of the EL Fellow Program, such as recruitment, financial and logistical management, reporting requirements, pre-departure orientation, evaluations, clearance of health verification records, TESOL 2009-related activities, etc. Applications involving partnering organizations, if applicable, must clearly delineate the role each partnering organization will play and its responsibilities. Letters of commitment from any potential partnering organization(s) must be included.

The Office of English Language Programs and U.S. embassies are substantially involved in the EL Fellows' roles and responsibilities. U.S. embassies facilitate the management of the EL Fellows in-country while the Bureau provides overall program and policy design and direction, with substantial involvement at all levels of the EL Fellow Program. Under the auspices of the Cooperative Agreement managed by the Bureau, the roles and responsibilities of the Bureau include:

• Inviting U.S. embassies to submit EL Fellow proposals;

• Reviewing and analyzing the ability of projects to raise the academic standards of English language teaching and to promote the Bureau's public diplomacy and exchanges goals;

• Analyzing the prospective impact of projects on host-country English teaching institutions and the likelihood of projects meeting host-country institutional needs;

• Prioritizing and finalizing selection of projects for which the Recipient will recruit EL Fellow candidates;

• Reviewing candidates' qualifications and résumés;

• Monitoring projects, participants, and program activities;

• Communicating and working with U.S. embassies to resolve EL Fellow issues (academic, health, welfare, etc); and

• Reviewing reports of EL Fellow activities and projects in host countries.

U.S. embassies submit proposals to the Bureau identifying opportunities for placement of Fellows in host-country institutions in accordance with the guidance provided by the Bureau. U.S. embassies are responsible for managing the EL Fellow Program in-country. The role of the U.S. embassies includes:

• Selecting host institutions, including evaluating the security of prospective sites;

• Establishing viable partnerships with prospective in-country host institutions that have critical English language programming needs;

• Developing project proposals in consultation with in-country host institutions to be implemented by EL Fellows;

• Reviewing applicants' qualifications and making final selections of EL Fellow candidates in consultation with in-country host institutions;

• Contacting EL Fellows prior to their arrival to answer questions about work-related issues, and to ensure that they have accurate information regarding housing, visa requirements, security, etc.;

• Conducting an EL Fellows' in-country arrival orientation and ensuring that the EL Fellows receive a security briefing by the embassy's Regional Security Officer;

• Working to maximize participants' safety and well-being, locating and securing quality housing, ensuring that the EL Fellows' visa/residency status is adjusted immediately after arrival in host country to comply with host-country immigration regulations, and acting as the EL Fellows' and Bureau's direct point of contact;

• Conducting site visits and monitoring of EL Fellows' programs and activities; and

• Selecting nominees (foreign teachers of English as a Foreign language) for participation in the 43rd Annual TESOL Convention (TESOL 2009) and related activities in the U.S.

II. Award Information

Type of Award: Cooperative Agreement.

Bureau's level of involvement in the EL Fellow Program is listed under number I above.

Fiscal Year Funds: FY 2009 (pending availability of funds).

Approximate Total Funding: $6,300,000.

Approximate Number of Awards: 1.

Approximate Average Award: $6,300,000.

Floor of Award Range: N/A.

Ceiling of Award Range: N/A.

Anticipated Award Date: Pending availability of funds, October 1, 2008.

Anticipated Project Completion Date: March 31, 2011.

Additional Information: Pending successful implementation of the EL Fellow Program and the availability of funds in subsequent fiscal years, it is the Bureau's intent to renew this Cooperative Agreement for two additional fiscal years before openly competing it again.

III. Eligibility Information

III.1. Eligible applicants: Applications may be submitted by public and private non-profit organizations meeting the provisions described in Internal Revenue Code section 26 U.S.C. 501(c)(3).

III.2. Cost sharing or matching funds: There is no minimum or maximum percentage required for this competition. However, the Bureau encourages applicants to provide maximum levels of cost sharing and funding in support of its programs. When cost sharing is offered, it is understood and agreed that the applicant must provide the amount of cost sharing as stipulated in its proposal and later included in an approved Cooperative Agreement. Cost sharing may be in the form of allowable direct or indirect costs. For accountability, the applicant must maintain written records to support all costs which are claimed as contribution, as well as costs to be paid by the Federal government. Such records are subject to audit. The basis for determining the value of cash and in-kind contributions must be in accordance with OMB Circular A-110, (Revised), Subpart C.23—Cost Sharing and Matching. In the event the applicant does not provide the minimum amount of cost sharing as stipulated in the approved budget, the Bureau's contribution will be reduced in like proportion.

III.3. Other Eligibility Requirements

Bureau Cooperative Agreement guidelines require that organizations with less than four years experience in conducting international exchanges be limited to $60,000 in Bureau funding. ECA anticipates awarding one Cooperative Agreement in an amount up to $6,300,000 to support program and administrative costs required to implement this exchange program. Therefore, organizations with less than four years experience in conducting international exchanges are ineligible to apply under this competition. The Bureau encourages applicants to provide maximum levels of cost sharing and funding in support of its programs.

IV. Application and Submission of Information

Note: Please read the complete Federal Register announcement before sending inquiries or submitting proposals. Once the RFGP deadline has passed, Bureau staff may not discuss this competition with applicants until the proposal review process has been completed.

IV.1. Contact Information to Request an Application Package: Please contact the Office of English Language Programs, ECA/A/L, Room 304, U.S. Department of State, SA-44, 301 4th Street, SW., Washington, DC 20547, telephone (202) 453-8844, fax: (202) 453-8858, e-mail williamsoncj@state.gov to request a Solicitation Package. Please refer to Funding Opportunity Number ECA/A/L-09-01 located at the top of this announcement when making your request.

Alternatively, an electronic application package may be obtained from Grants.gov. Please see section IV.2 for further information.

The Solicitation Package contains the Proposal Submission Instructions (PSI) document which consists of required application forms, and standard guidelines for proposal preparation.

It also contains the Project Objectives, Goals, and Implementation (POGI) document, which provides specific information, award criteria, and budget instructions tailored to this competition.

Please specify ECA/A/L Program Officer, Catherine Williamson, and refer to Funding Opportunity Number ECA/A/L-09-01 located at the top of this announcement on all other inquiries and correspondence.

IV.2. To Download a Solicitation Package Via Internet: The entire Solicitation Package may be downloaded from the Bureau's Web site at http://www.exchanges.state.gov/education/rfgps/menu.htm or from the Grants.gov Web site at http://www.grants.gov. Please read all information before downloading.

IV.3. Content and Form of Submission: Applicants must follow all instructions in the Solicitation Package. The application should be submitted per the instructions under IV.3f. “Application Deadline and Methods of Submission” section below.

IV.3a. Applicant is required to have a Dun and Bradstreet Data Universal Numbering System (DUNS) number to apply for a Grant or Cooperative Agreement from the U.S. Government.

This number is a nine-digit identification number, which uniquely identifies business entities. Obtaining a DUNS number is easy and there is no charge. To obtain a DUNS number, access http://www.dunandbradstreet.com or call 1-866-705-5711. Please ensure that the applicant's DUNS number is included in the appropriate box of the SF-424, which is part of the formal application package.

IV.3b. All proposals must contain an executive summary, proposal narrative, and budget. Please Refer to the Solicitation Package for formatting and technical requirements. The package contains the mandatory Proposal Submission Instructions (PSI) document and the Project Objectives, Goals, and Implementation (POGI) document.

IV.3c. Applicant must have nonprofit status with the IRS at the time of application. Please note: Effective March 14, 2008, all applicants for ECA federal assistance awards must include with their application, a copy of page 5, Part V-A, “Current Officers, Directors, Trustees, and Key Employees” of their most recent Internal Revenue Service (IRS) Form 990, “Return of Organization Exempt From Income Tax.” If the organization is a private nonprofit which has not received a Grant or Cooperative Agreement from ECA in the past three years, or if the applicant organization has received nonprofit status from the IRS within the past four years, the applicant must submit the necessary documentation to verify nonprofit status as directed in the PSI document. Failure to do so will cause the proposal to be declared technically ineligible.

IV.3d. Please take into consideration the following information when preparing the proposal narrative:

IV.3d.1. Adherence to All Regulations Governing the J Visa

The Bureau of Educational and Cultural Affairs places critical emphases on the security and proper administration of Exchange Visitor (J visa) programs and adherence by the Recipient and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting, and other requirements.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into the proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above not have inappropriate influence in the selection process. Proposals should reflect advancement of these goals in their program contents, to the full extent deemed feasible.

IV.3d.3. Program Monitoring and Evaluation

Proposals must include a plan to monitor and evaluate the project's success, both as the activities unfold and at the end of the program. The Bureau recommends that the proposal include a draft survey questionnaire, or other technique, plus a description of a methodology to be used to link outcomes to original project objectives. The Bureau expects that the Recipient will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. The evaluation plan should include a description of the project's objectives, the anticipated project outcomes, and how and when the Recipient intends to measure these outcomes (performance indicators). The more that outcomes are “smart” (specific, measurable, attainable, results-oriented, and placed in a reasonable time frame), the easier it will be to conduct the evaluation. The Recipient should also show how the project objectives link to the goals of the program described in this RFGP.

The monitoring and evaluation plan should clearly distinguish between program outputs and outcomes. Outputs are products and services delivered, often stated as an amount. Output information is important to show the scope or size of project activities, but it cannot substitute for information about progress towards outcomes, i.e., the results achieved. Examples of outputs include the number of people trained or the number of seminars conducted. Outcomes, in contrast, represent specific intended project results to achieve, and is usually measured as an extent of change. Findings on outputs and outcomes should both be reported, but the focus should be on outcomes.

We encourage the applicant to assess the following four levels of outcomes as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; such as greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes. Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The Recipient will be required to provide reports analyzing the evaluation findings to the Bureau in the regular program reports. All data collected, including survey responses and contact information, must be maintained for a minimum of three years and provided to the Bureau upon request.

IV. 3d.4. Describe plans for sustainability, e.g., overall program management, staffing, coordination with ECA and embassies.

IV.3e. Please take the following information into consideration when preparing the budget:

IV.3e.1. Applicants must submit a comprehensive budget for the entire program. There must be a summary budget as well as breakdowns reflecting both administrative and program budgets. Applicants may provide separate sub-budgets for each program component, phase, location, or activity to provide clarification.

IV.3e.2. For allowable costs for the program and complete budget guidelines and formatting instructions, please refer to the Solicitation Package and POGI.

IV.3f. Application Deadline and Methods of Submission

Application Deadline Date: June 13, 2008.

Reference Number: ECA/A/L-09-01.

Methods of Submission:

Applications may be submitted in one of two ways:

1. In hard-copy, via a nationally recognized overnight delivery service (i.e., DHL, Federal Express, UPS, Airborne Express, or U.S. Postal Service Express Overnight Mail, etc.), or

2. Electronically through http://www.grants.gov. Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadline are ineligible for consideration under this competition. ECA will not notify the applicant upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing the submission please make sure to include one extra copy of the completed SF-424 form and place it in an envelope addressed to “ECA/EX/PM.”

The original and 14 copies of the application should be sent to: U.S. Department of State, SA-44, Bureau of Educational and Cultural Affairs, Ref.: ECA/A/L-09-01, Program Management, ECA/EX/PM, Room 534, 301 4th Street, SW., Washington, DC 20547.

IV.3f.2. Submitting Electronic Applications

Applicants have the option of submitting proposals electronically through Grants.gov (http://www.grants.gov). Complete solicitation packages are available at Grants.gov in the “Find” portion of the system. Please follow the instructions available in the ‘Get Started’ portion of the site (http://www.grants.gov/GetStarted).

Several of the steps in the Grants.gov registration process could take several weeks to complete. Therefore, applicants should check with appropriate staff within their organizations immediately after reviewing this RFGP to confirm or determine their registration status with Grants.gov.

Once the applicant has registered, the amount of time it can take to upload an application will vary depending on a variety of factors including the size of the application and the speed of the applicant's Internet connectivity.

Therefore, we strongly recommend that the applicant not wait until the application deadline to begin the submission process through Grants.gov.

Direct all questions regarding Grants.gov registration and submission to: Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system and will be technically ineligible.

Applicants will receive a confirmation e-mail from Grants.gov upon the successful submission of an application. ECA will not notify applicants upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau Grant and Agreement panels for advisory review. Proposals may also be reviewed by the Office of the Legal Adviser or by other Department elements. Final funding decisions are at the discretion of the Department of State's Assistant Secretary for Educational and Cultural Affairs. Final technical authority for Cooperative Agreement resides with the Bureau's Grants Officer.

V.2. Review Criteria

Technically eligible applications will be competitively reviewed according to the criteria stated below. These criteria are not rank ordered and all carry equal weight in the proposal evaluation:

1. Quality of the program idea/program planning: Proposals should exhibit originality, substance, precision, and relevance to the Bureau's mission. Detailed agenda and relevant work plan should demonstrate substantive undertakings and logistical capacity. Agenda and plan should adhere to the program overview and guidelines described above.

2. Ability to achieve program objectives: Objectives should be reasonable, feasible, and flexible. Proposals should clearly demonstrate how the institution will meet the program's objectives and plan.

3. Multiplier effect/impact: Proposed programs should strengthen long-term mutual understanding, including maximum sharing of information and establishment of long-term institutional and individual linkages.

4. Support of diversity: Proposals should demonstrate substantive support of the Bureau's policy on diversity. Achievable and relevant features should be cited in both program administration (selection of participants, program venue, and program evaluation) and program content (orientation and wrap-up sessions, program meetings, resource materials, and follow-up activities).

5. Institutional capacity: Proposed personnel and institutional resources should be adequate and appropriate to achieve the program or project's goals.

6. Institution's record/ability: Proposals should demonstrate an institutional record of successful exchange programs, including responsible fiscal management and full compliance with all reporting requirements for past Bureau Grants or Cooperative Agreements as determined by Bureau Grants staff. The Bureau will consider the past performance of prior Recipients and the demonstrated potential of new applicants.

7. Follow-on activities: Proposals should provide a plan for continued follow-on activity (without Bureau support), ensuring that Bureau supported programs are not isolated events.

8. Project evaluation: Proposals should include a plan to evaluate the activities' success, both as the activities unfold and at the end of the program. A draft survey questionnaire, or other technique, plus description of a methodology to be used to link outcomes to original project objectives is recommended.

9. Cost-effectiveness and Cost Sharing: The overhead and administrative components of the proposal, including salaries and honoraria, should be kept as low as possible. All other budgeted items should be necessary and appropriate. Proposals should maximize cost-sharing through other private sector support as well as institutional direct funding contributions.

10. Professional expertise in TEFL: Proposals should demonstrate a publicity and recruitment plan that allows for the greatest dissemination of information to professionals in the areas of teaching English as a foreign language, Applied Linguistics, and related fields. The applicant must be able to provide knowledgeable, experienced management staff with TEFL/TESOL qualifications who are capable of interviewing candidates and accurately evaluating their teaching qualifications for the Fellow program.

VI. Award Administration Information

VI.1a. Award Notices

Final awards cannot be made until funds have been appropriated by Congress, allocated, and committed through internal Bureau procedures. Successful applicants will receive an Assistance Award Document (AAD) from the Bureau's Grants Office. The AAD and the original Cooperative Agreement proposal with subsequent modifications (if applicable) shall be the only binding authorizing documents between the Recipient and the U.S. Government. The AAD will be signed by an authorized Grants Officer and mailed to the Recipient's responsible officer identified in the application.

Unsuccessful applicants will receive notification of the results of the application review from the ECA program office coordinating this competition.

Prohibition on the Use of Federal Funds to Promote, Support, or Advocate for the Legalization or Practice of Prostitution.

“The U.S. Government is opposed to prostitution and related activities which are inherently harmful and dehumanizing and contribute to the phenomenon of trafficking in persons. None of the funds made available under this agreement may be used to promote, support, or advocate the legalization or practice of prostitution. Nothing in the preceding sentence shall be construed to preclude assistance designed to ameliorate the suffering of, or health risks to, victims while they are being trafficked or after they are out of the situation that resulted from such victims' being trafficked.”

The Recipient shall insert the foregoing provision in all sub-agreements under the award.

This provision includes express terms and conditions of the agreement and any violation of it shall be grounds for unilateral termination of the agreement by the Department of State prior to the end of its term.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local, and Indian Governments.”

OMB Circular No. A-110 (Revised), “Uniform Administrative Requirements for Grants and Agreements with Institutions of Higher Education, Hospitals, and other Nonprofit Organizations.”

OMB Circular No. A-102, “Uniform Administrative Requirements for Grants-in-Aid to State and Local Governments.”

OMB Circular No. A-133, “Audits of States, Local Government, and Non-profit Organizations.”

Please reference the following Web sites for additional information:

http://www.whitehouse.gov/omb/grants.

http://exchanges.state.gov/education/grantsdiv/terms.htm#articleI.

VI.3. Reporting Requirements: The Recipient must provide ECA with a hard copy original plus two copies of the following reports:

(1) Interim Program Reporting: A report describing and evaluating the activities undertaken pursuant to the award document shall be submitted within 30 days following each calendar year quarter.

(2) Interim Financial Reporting: A report reflecting expenditures against each line item set forth in Article II of the Bureau Specific Requirements shall be submitted within 30 days following each calendar year quarter. The Recipient's Chief Fiscal Officer or an officer of comparable rank must certify this report.

(3) Final Program Reporting: A report describing and evaluating the activities undertaken pursuant to the award document shall be submitted within 90 days after the expiration date of the Agreement.

(4) Final Financial Reporting: A report reflecting expenditures against each line item set forth in Article II of the Bureau Specific Requirements shall be submitted within 90 days after the expiration date of the Agreement. The report must disclose cost sharing and be certified by the Recipient's Chief Fiscal Officer or an officer of comparable rank.

The Recipient will be required to provide reports analyzing evaluation findings to the Bureau in the regular program reports. (Please refer to IV. Application and Submission Instructions (IV.3.d.3) above for Program Monitoring and Evaluation information).

All data collected, including survey responses and contact information, must be maintained for a minimum of three years and provided to the Bureau upon request.

All reports must be sent to the ECA Grants Officer and ECA Program Officer listed in the final assistance award document.

VI.4. Optional Program Data Requirements: Organizations awarded a Cooperative Agreement will be required to maintain specific data on program participants and activities in an electronically accessible database format that can be shared with the Bureau as required. As a minimum, the data must include the following:

(1) Name, address, contact information, and biographic sketch of all persons who travel internationally on funds provided by the Cooperative Agreement or who benefit from the Cooperative Agreement funding but do not travel.

(2) Itineraries of international and domestic travel, providing dates of travel and cities in which any exchange experiences take place. Final schedules for in-country and U.S. activities must be received by the ECA Program Officer at least three work days prior to the official opening of the activity.

VII. Agency Contacts

For questions about this announcement, contact: Catherine Williamson, Office of English Language Programs, ECA/A/L, U.S. Department of State, SA-44, 301 4th Street, SW., Washington, DC 20547, telephone (202) 453-8844, fax (202) 453-8858, e-mail williamsoncj@state.gov.

All correspondence with the Bureau concerning this RFGP should reference the above title and number ECA/A/L-09-01. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 3, 2008.
C. Miller Crouch,
Principal Deputy Assistant Secretary, Bureau of Educational and Cultural Affairs, Department of State.

[FR Doc. E8-7625 Filed 4-9-08; 8:45 am]

BILLING CODE 4710-05-P